NUCLEAR REGULATORY COMMISSION

[Docket Nos. 50-498 and 50-499]

STP Nuclear Operating Company; Notice of Withdrawal of Application for Amendment to Facility Operating Licenses

The U.S. Nuclear Regulatory Commission (the Commission) has granted the request of STP Nuclear Operating Company (the licensee) to withdraw its February 14, 2002, and its supplement dated October 24, 2002, applications for proposed amendments to Facility Operating License Nos. NPF-76 and No. NPF-80 for the South Texas Project (STP), Units 1 and 2, located in Matagorda County, Texas.

The proposed amendments would have modified STP, Units 1 and 2, Technical Specification (TS) 3.3.2 requirements for Loss of Power Instrumentation (Functional Unit 8) and TSs 3.8.1.1, 3.8.1.2, and 3.8.1.3 for AC Sources.

The Commission had previously issued a Notice of Consideration of Issuance of Amendment published in the Federal Register on April 30, 2002, (67 FR 21294). However, by letter dated September 22, 2003 (NOC-AE-03001472), the licensee withdrew the proposed amendments and supersedes, in its entirety the application dated February 14, 2002, and its supplement dated October 24, 2002, for which the staff proposed no significant hazard consideration determination on April 30, 2002 (67 FR 21294). This application withdraws the proposed changes to TS 3.3.2 requirements for Loss of Power Instrumentation and the proposed changes to TS 3.8.1.1 for AC Sources. The changes proposed for TS 3.3.2 are described in the application dated September 22, 2003 (NOC-AE-03001578). The changes proposed for TSs 3.8.1.2 and 3.8.1.3 are documented in the September 22, 2003 (NOC-AE-03001472) application.

For further details with respect to this action, see the application for amendment dated February 14, 2002, and its supplement dated October 24, 2002, and the licensee's letters dated September 22, 2003, which withdrew the application for license amendment. Documents may be examined, and/or copied for a fee, at the NRC's Public Document Room (PDR) located at One White Flint North, Public File Area 01 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encountered problems in accessing the documents located in ADAMS, should contact the NRC PDR Reference staff by telephone at 1-800-397-4209 or 301-415-4737 or by e-mail to pdr@nrc.gov.

Dated at Rockville, Maryland, this 30th day of September 2003.
For the Nuclear Regulatory Commission.
John L. Minns,
Project Manager, Section 1, Project Directorate IV, Division of Licensing Project Management, Office of Nuclear Reactor Regulation.

[FR Doc. 03-25743 Filed 10-9-03; 8:45 am]

BILLING CODE 7590-01-P